NUCLEAR REGULATORY COMMISSION

[Docket Nos. 50-317 and 50-318]

Baltimore Gas and Electric Company, Calvert Cliffs Nuclear Power Plant, Units 1 and 2; Notice of Issuance of Renewed Facility Operating Licenses Nos. DPR-53 and DPR-69 for an Additional 20-Year Period

Notice is hereby given that the U.S. Nuclear Regulatory Commission (the Commission) has issued (1) Renewed Facility Operating License No. DPR-53 (the Unit 1 license), and (2) Renewed Facility Operating License No. DPR-69 (the Unit 2 license) to Baltimore Gas and Electric Company (the licensee). The Unit 1 license authorizes operation of the Calvert Cliffs Nuclear Power Plant, Unit 1 by the licensee at reactor core power levels not in excess of 2700 megawatts thermal in accordance with the provisions of the Unit 1 license, its Technical Specifications (Appendices A and B), and the Additional Conditions in Appendix C to the license. The Unit 2 license authorizes operation of the Calvert Cliffs Nuclear Power Plant, Unit 2 by the licensee at reactor core power levels not in excess of 2700 megawatts thermal in accordance with the provisions of the Unit 2 license, its Technical Specifications (Appendices A and B), and the Additional Conditions in Appendix C to the license.

Calvert Cliffs Nuclear Power Plant, Units 1 and 2, are pressurized water nuclear reactors located at the licensee's site on the west shore of the Chesapeake Bay in Calvert County, Maryland.

The application for the renewed licenses complies with the standards and requirements of the Atomic Energy Act of 1954, as amended (the Act), and the Commission's regulations. The Commission has made appropriate findings as required by the Act and the Commission's regulations in 10 CFR Chapter I, which are set forth in each license. Prior public notice of the action involving the proposed issuance of these renewed operating licenses was published in the Federal Register on May 19, 1998 (63 FR 27601). A notice of opportunity for hearing regarding the proposed issuance of these renewed operating licenses was published in the Federal Register on July 8, 1998 (63 FR 36966).

For further details with respect to these actions, see (1) the Baltimore Gas and Electric Company's License Renewal Application for Calvert Cliffs Nuclear Power Plant, Units 1 and 2, dated April 8, 1998, as supplemented by letters dated July 17 and 30, September 25, November 2, 4, 9, 12, 16, 17, 19, and 20, and December 3 and 10, 1998; February 4 and 19, March 11, April 4, July 2 and 16, September 28, October 22, November 12, and December 6 and 30, 1999; and January 12, 2000; (2) Renewed Facility Operating License Nos. DPR-53 and DPR-69, with the appendices listed above; (3) the Commission's Safety Evaluation Reports dated March 21, November 16, and December 1999 (NUREG-1705); (4) the licensee's updated final safety analysis report; and (5) the Commission's Final Environmental Impact Statement (NUREG-1437, Supplement 1), dated October 1999. These items are available at the NRC's Public Document Room, the Gelman Building, 2120 L Street NW., Washington, DC 20555-0001, and can be viewed from the NRC Public Electronic Reading Room at http://www.nrc.gov/NRC/ADAMS/index.html.

A copy of the Renewed Facility Operating Licenses, Nos. DPR-53 and DPR-69, may be obtained upon request addressed to the U.S. Nuclear Regulatory Commission, Washington, D.C. 20555-0001, Attention: Director, Division of Licensing Project Management. Copies of the Safety Evaluation Report (NUREG-1705) and the Final Environmental Impact Statement (NUREG-1437, Supplement 1) may be purchased from the National Technical Information Service, Springfield, Virginia 22161-0002 (telephone number 703-487-4650, <http://www.ntis.gov/ordernow>), or the Superintendent of Documents, U.S. Government Printing Office, P.O. Box 37082, Washington, DC 20402-9328 (telephone number 202-512-4650, <http://www.access.gpo.gov/sh_docs>). All orders should clearly identify the NRC publication number and the requestor's Goverment Printing Office deposit account, or VISA or Mastercard number and expiration date.

Dated at Rockville, Maryland, this 23rd day of March 2000.
For the Nuclear Regulatory Commission.
David L. Solorio,
Project Manager, License Renewal and Standardization Branch, Division of Regulatory Improvement Programs.

[FR Doc. 00-7710 Filed 3-28-00; 8:45 am]

BILLING CODE 7590-01-P